ENVIRONMENTAL PROTECTION AGENCY

[ER-FRL-6658-5]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167.

An explanation of the ratings assigned to draft environmental impact statements (EISs) was published in FR dated April 2, 2004 (69 FR 17403).

Draft EISs

ERP No. D-AFS-L65468-00 Rating EC2, Pacific Northwest Region Invasive Plant Program, Preventing and Managing Invasive Plants, Implementation, OR, WA, Including Portions of Del Norte and Siskiyou Counties, CA and Portions of Nez Perce, Salmon, Idaho and Adam Counties, ID.

Summary: EPA supports the management and eradication of invasive species. However, EPA expressed concerns with the level of prevention measures to curb the spread of invasives and the use of herbicides in the preferred alternative.

ERP No. D-BLM-L65462-AK Rating EO2, Northeast National Petroleum Reserve Alaska Amended Integrated Activity Plan, To Amend 1998 Northeast Petroleum Reserve, To Consider Opening Portions of the BLM-Administrated Lands, North Slope Borough, AK.

Summary: EPA has environmental objections to the Preferred Alternative, because of potentially significant adverse impacts to fish and caribou calving and inset-relief areas and mitigation corridors in the Teshekpuk Lake Special Area. EPA recommends that the selected alternatives retain the current leasing acreage and surface activity restrictions described in Alternative A and include revised stipulations and mitigation measures that would provide adequate environmental protections for the Planning Area, including lands within the Teshekpuk Lake and Colville River Special Areas. EPA is also concerned that the Preferred Alternative could have disproportionate adverse effects on minority populations in Alaska, and recommends the BLM address this while completing the Final EIS by working with the Tribes and residents in affected communities especially regarding cultural and subsistence needs.

ERP No. D-COE-H11005-NB Rating LO, Cornhusker Army Ammunition Plant (CHAAP) Land Disposal Industrial Tracts, Proposed Disposal and Reuse of Tracts 32, 33, 34, 35, 36, 47, 61, 62, Hall County, NE.

Summary: EPA does not object to the proposed project.

ERP No. D-FHW-C53005-NJ Rating EC2, Cross Harbor Freight Movement Project, Improve the Movements of Goods Throughout Northern New Jersey and Southern New York, Funding, Kings, Richmond, Queens, New York Counties, NJ.

Summary: EPA expressed concerns regarding an intermodal facility, the impacts to air quality and wetlands, and cumulative effects.

ERP No. D-IBR-K39088-CA Rating EC2, Sacramento River Settlement Contractors (SRSC), To Renew the Settlement Contractors Long-Term Contract Renewal for 145 Contractors, Central Valley Project (CVP), Sacramento River, Shasta, Tehama, Butte, Glenn, Colusa, Sutter, Yolo, Sacramento, Portion of Placer and Solano Counties, CA.

Summary: EPA expressed concerns with the disclosure of environmental impacts as a result of the project and the direct, indirect, and cumulative impacts to water quality due to over allocation of existing water supplies.

Final EISs

ERP No. F-AFS-J65396-WY, Wyoming Range Allotment Complex, To Determine Whether or not to Allow Domestic Sheep Grazing, Bridger-Teton National Forest, Big Piney, Greys River and Jackson Ranger Districts, Sublette, Lincoln and Teton Counties, WY.

Summary: EPA expressed continuing concerns regarding soil loss, and impacts to water quality and native trout habitat in the project area.

ERP No. F-COE-E39064-FL, Programmatic EIS—Florida Keys Water Quality Improvements Program, To Implement Wastewater and Stormwater Improvements, South Florida Water Management District, Monroe County, FL.

Summary: EPA does not object to the proposed project. However, EPA suggested extending the comment period several weeks to accommodate citizens whose property was damaged in recent hurricanes.

ERP No. F-COE-L32012-AK, Unalaska Navigation Improvements Project, Construction of Harbor on Amaknak Island in Aleutian Island Chain, Locally known as “Little South America, Integrated Feasibility Report, Aleutian Island, AK.

Summary: No formal comment letter was sent to the preparing agency.

ERP No. F-FTA-C40163-NY, Fulton Street Transit Center, Construction and Operation, To Improve Access to and from Lower Manhattan to Serve 12 NYCT Subway Lines, Metropolitan Transportation Authority (MIA), MTA New York City Transit (NYCT), New York, NY.

Summary: The Final EIS addresses all of EPA's concerns.

Dated: December 7, 2004.
Robert W. Hargrove,
Director, NEPA Compliance Division, Office of Federal Activities.

[FR Doc. 04-27174 Filed 12-9-04; 8:45 am]

BILLING CODE 6560-50-P